DEPARTMENT OF AGRICULTURE

Forest Service

Basin Creek Fuels Reduction Project, Beaverhead-Deerlodge National Forest, Silver Bow, County, MT

AGENCY: Forest Service, USDA.

ACTION: Notice of intent to prepare an Environmental Impact Statement.

SUMMARY: The USDA, Forest Service, Beaverhead-Deerlodge National Forest, will prepare an Environmental Impact Statement (EIS) to document the analysis and disclose the environmental impacts of proposed vegetation treatments in the Basin Creek watershed south of Butte, Montana.

The project area is located in the southern half of the Basin Creek watershed within the Highland Mountains in southwestern Montana (Township 2 North, Range 7 West sections 29, 31, 32; Township 1 North, Range 7 West, sections 5-8, 17-20; Township 1 North, Range 8 West, sections 1-4, 9-12, 13-16, 21-24; and Township 2 North, Range 8 West, section 23).

The Beaverhead-Deerlodge National Forest is proposing to treat forested areas in the Basin Creek Project Area to reduce the likelihood of high intensity rapidly spreading fire to reduce risks to fire fighter and public safety, private property, and water quality in the Basin Creek Municipal Watershed. The proposed action will reduce high levels of wildland fuels in two main areas of concern, a 3,900-acre area southwest of the Roosevelt Drive subdivision and a 9,000-acre area in the Basin Creek Municipal watershed. Treatments would include up to 1,500 acres of slashing, burning, and timber harvest in the area below the Roosevelt Drive subdivision. No permanent road construction is proposed in this area; however, there may be some need for temporary roads. Close coordination with the local homeowners will occur in the specific design of treatments.

A large portion (5,700 acres) of the municipal watershed is in an inventorized roadless area. Fire simulation models are being used to determine where treatments would be the most effective in slowing fire while minimizing the number of acres needing to be treated. Modeling has not been completed at this time, therefore, no estimate of number of acres is known at this time. No permanent or temporary road construction is proposed within the inventorized roadless area.

Reconstruction of the Herman Gulch Road is being considered to improve the route for firefighter and public access during emergency situations and address soil erosion issues.

No treatments would be proposed within INFISH defined riparian habitat conservation areas. No treatment within old-growth forest is planned.

Alternatives: This EIS will evaluate alternative methods to meet the designated Purpose and Need for the action:

1. Minimize the risks to water quality in the event of wildland fire in the Basin Creek Municipal Watershed.

2. Reduce the potential of damage to public and private property and structures within the project area from wildland fire.

3. Modify vegetative conditions to increase firefighter and public safety.

At least one alternative will exclude any treatments within the inventorized roadless area. As required by NEPA, a “no action” alternative will be analyzed as a baseline for gauging the potential impacts of action alternatives. Forest Plan Visual Quality Objectives for the project area are fairly restrictive. Proposed treatments may require a Forest Plan amendment.

Public Involvement: The public will be invited to comment on the Draft EIS during a public open house, field trip, and in writing to the Beaverhead-Deerlodge National Forest. The location and time of the open house and time of the site field visit will be announced in the local news media, as dates are determined. The public may contact the Forest to have their name added to a project mailing list.

DATES: Initial comments concerning the scope of the analysis should be received in writing no later than 30 days from the publication of this notice of intent.

ADDRESSES: The responsible official is Dale Bosworth, Chief of the Forest Service. Please send written comments to Thomas K. Reilly, Forest Supervisor, 420 Barrett Street, Dillon, MT 59725. Comments may also be electronically submitted to r1_b-d_comments@fs.fed.us.

FOR FURTHER INFORMATION CONTACT: Steve Egeline, Acting Butte District Ranger, Beaverhead-Deerlodge National Forest, 1820 Meadowlark Lane, Butte, MT 59701, or phone (406) 494-0219.

SUPPLEMENTARY INFORMATION: Public participation is important to this analysis. Part of the goal of public involvement is to identify additional issues and to refine general issues. Scoping notices were mailed to the public on March 29, 2002 and February 11, 2003.

People may visit with Forest Service officials at any time during the analysis and prior to the decision. Two periods are specifically designated for comments on the analysis: (1) during the scoping process, and (2) during the draft EIS period.

During the scoping process, the Forest Service seeks additional information and comments from individuals or organizations that may be interested in or affected by the proposed action, and federal, state, and local agencies. The Forest Service invites written comments and suggestions on this action, particularly in terms of issues and alternative development.

The draft EIS is anticipated to be available for review in June 2003. The final EIS planned for completion in December 2003.

The Environmental Protection Agency will publish the notice of availability of the draft Environmental Impact Statement in the Federal Register. The Forest will also publish a legal notice of its availability in the Montana Standard Newspaper, Butte, Montana. A 45-day comment period on the draft EIS will begin the day after the legal notice is published.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519,553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

The responsible official will make the decision on this proposal after considering comments and responses, environmental consequences discussed in the final EIS, applicable laws, regulations, and policies. The decision and reasons for the decision will be documented in a Record of Decision.

Dated: April 7, 2003.
Thomas K. Reilly,
Forest Supervisor.

[FR Doc. 03-9010 Filed 4-11-03; 8:45 am]

BILLING CODE 3410-11-M